DEPARTMENT OF HEALTH AND HUMAN SERVICES

National Institutes of Health

National Library of Medicine; Amended Notice of Meeting

Notice is hereby given of a change in the meeting of the Biomedical Library and Informatics Review Committee, November 5, 2009, 8 a.m. to November 6, 2009, 2 p.m., National Library of Medicine, Building 38, Board Room, 2nd Floor, 8600 Rockville Pike, Bethesda, MD 20892 which was published in the Federal Register on July 24, 2009, 74 FR 36726.

The meeting will end on November 6, 2009 at 9 a.m. The meeting is closed to the public.

Dated: August 28, 2009.
Jennifer Spaeth,
Director, Office of Federal Advisory Committee Policy.

[FR Doc. E9-21766 Filed 9-10-09; 8:45 am]

BILLING CODE 4140-01-M